Proclamation 8609 of November 30, 2010

World AIDS Day, 2010

By the President of the United States of America

A Proclamation

On this World AIDS Day, as we approach the thirtieth year of the HIV/AIDS pandemic, we reflect on the many Americans and others around the globe lost to this devastating disease, and pledge our support to the 33 million people worldwide who live with HIV/AIDS. We also recommit to building on the great strides made in fighting HIV, to preventing the spread of the disease, to continuing our efforts to combat stigma and discrimination, and to finding a cure.

Today, we are experiencing a domestic HIV epidemic that demands our attention and leadership. My Administration has invigorated our response to HIV by releasing the first comprehensive National HIV/AIDS Strategy for the United States. Its vision is an America in which new HIV infections are rare, and when they do occur, all persons—regardless of age, gender, race or ethnicity, sexual orientation, gender identity, or socio-economic circumstance—will have unfettered access to high-quality, life-extending care.

Signifying a renewed level of commitment and urgency, the National HIV/AIDS Strategy for the United States focuses on comprehensive, evidence-based approaches to preventing HIV in high-risk communities. It strengthens efforts to link and retain people living with HIV into care, and lays out new steps to ensure that the United States has the workforce necessary to serve Americans living with HIV. The Strategy also provides a path for reducing HIV-related health disparities by adopting community-level approaches to preventing and treating this disease, including addressing HIV-related discrimination.

Along with this landmark Strategy, we have also made significant progress with the health reform law I signed this year, the Affordable Care Act. For far too long, Americans living with HIV and AIDS have endured great difficulties in obtaining adequate health insurance coverage and quality care. The Affordable Care Act prohibits insurance companies from using HIV status and other pre-existing conditions as a reason to deny health care coverage to children as of this year, and to all Americans beginning in 2014. To ensure that individuals living with HIV/AIDS can access the care they need, the Affordable Care Act ends lifetime limits and phases out annual limits on coverage. Starting in 2014, it forbids insurance companies from charging higher premiums because of HIV status, and introduces tax credits that will make coverage more affordable for all Americans. This landmark law also provides access to insurance coverage through the Pre-Existing Condition Insurance Plan for the uninsured with chronic conditions.

Our Government has a role to play in reducing stigma, which is why my Administration eliminated the entry ban that previously barred individuals living with HIV/AIDS from entering the United States. As a result, the 2012 International AIDS Conference will be held in Washington, D.C., the first time this important meeting will be hosted by the United States in over two decades. For more information about our commitment to fighting this epidemic and the stigma surrounding it, I encourage all Americans to visit: www.AIDS.gov.

Tackling this disease requires a shared response that builds on the successes achieved to date. Globally, tens of millions of people have benefited from HIV prevention, treatment, and care programs supported by the American people. The President’s Emergency Plan for AIDS Relief (PEPFAR) and the Global Fund to Fight AIDS, Tuberculosis and Malaria support anti-retroviral treatments for millions around the world. My Administration has also made significant investments and increases in our efforts to fight the spread of HIV/AIDS at home and abroad by implementing a comprehensive package of proven prevention programs and improving the health of those in developing countries. Additionally, the Global Health Initiative integrates treatment and care with other interventions to provide a holistic approach to improving the health of people living with HIV/AIDS. Along with our global partners, we will continue to focus on saving lives through effective prevention activities, as well as other smart investments to maximize the impact of each dollar spent.

World AIDS Day serves as an important reminder that HIV/AIDS has not gone away. More than one million Americans currently live with HIV/AIDS in the United States, and more than 56,000 become infected each year. For too long, this epidemic has loomed over our Nation and our world, taking a devastating toll on some of the most vulnerable among us. On World AIDS Day, we mourn those we have lost and look to the promise of a brighter future and a world without HIV/AIDS.

NOW, THEREFORE, I, BARACK OBAMA, President of the United States of America, by virtue of the authority vested in me by the Constitution and the laws of the United States do hereby proclaim December 1, 2010, as World AIDS Day. I urge the Governors of the States and the Commonwealth of Puerto Rico, officials of the other territories subject to the jurisdiction of the United States, and the American people to join in appropriate activities to remember the men, women, and children who have lost their lives to AIDS and to provide support and comfort to those living with this disease.

IN WITNESS WHEREOF, I have hereunto set my hand this thirtieth day of November, in the year of our Lord two thousand ten, and of the Independence of the United States of America the two hundred and thirty-fifth.

[FR Doc. 2010-30585

Filed 12-2-10; 11:15 am]

Billing code 3195-W1-P